DEPARTMENT OF COMMERCE

Foreign-Trade Zones Board

[S-75-2017]

Approval of Subzone Status; Universal Metal Products, Inc.; Pharr, Texas

On May 10, 2017, the Executive Secretary of the Foreign-Trade Zones (FTZ) Board docketed an application submitted by McAllen Foreign Trade Zone, Inc., grantee of FTZ 12, requesting subzone status subject to the existing activation limit of FTZ 12, on behalf of Universal Metal Products, Inc., in Pharr, Texas.

The application was processed in accordance with the FTZ Act and Regulations, including notice in the Federal Register inviting public comment (82 FR 25240, June 1, 2017). The FTZ staff examiner reviewed the application and determined that it meets the criteria for approval. Pursuant to the authority delegated to the FTZ Board Executive Secretary (15 CFR Sec. 400.36(f)), the application to establish Subzone 12B was approved on July 14, 2017, subject to the FTZ Act and the Board's regulations, including Section 400.13, and further subject to FTZ 12's 873.5-acre activation limit.

Dated: August 8, 2017.
Andrew McGilvray,
Executive Secretary.

[FR Doc. 2017-17120 Filed 8-11-17; 8:45 am]

BILLING CODE 3510-DS-P